DEPARTMENT OF THE TREASURY

Agency Information Collection Activities; Proposed Collection; Comment Request; Equal Employment Opportunity (EEO) Complaint Forms

AGENCY: Departmental Offices, U.S. Department of the Treasury.

ACTION: Notice of information collection; request for comment.

SUMMARY: The Department of the Treasury, as part of its continuing effort to reduce paperwork and respondent burden, invites the general public and other federal agencies to comment on the proposed information collection listed below, in accordance with the Paperwork Reduction Act of 1995.

DATES: Written comments must be received on or before June 27, 2025.

ADDRESSES: Send comments regarding the burden estimate, or any other aspect of the information collection, including suggestions for reducing the burden, to Treasury PRA Clearance Officer, 1750 Pennsylvania Ave. NW, Suite 8100, Washington, DC 20220, or email at PRA@treasury.gov.

FOR FURTHER INFORMATION CONTACT: Copies of the submissions may be obtained from Spencer W. Clark by emailing PRA@treasury.gov, calling (202) 927-5331, or viewing the entire information collection request at www.reginfo.gov.

SUPPLEMENTARY INFORMATION:

Title: Equal Employment Opportunity (EEO) Complaint Forms.

OMB Control Number: 1505-0262.

Type of Review: Revision of a currently approved collection.

Description: This information is being collected for the purpose of processing informal and formal complaints of employment discrimination against the Department on the bases of race, color, religion, sex (including pregnancy), national origin, age (over 40), disability, genetic information, parental status, or retaliation. Pursuant to 29 CFR 1614.105, the individual must participate in pre-complaint counseling to try to informally resolve his/her complaint prior to filing a complaint of discrimination. Information provided on the pre-complaint forms may be used by the counselee to assist in determining if they would like to file a formal complaint against the Department. The information captured on these forms will be reviewed by the staff of the Department's Office of Civil Rights and EEO to frame the claims for investigation and determine whether the claims are within the parameters established in 29 CFR part 1614. Minor changes were made to previously approved EEO Forms to reflect the removal of gender identity and sexual orientation as a basis for sex discrimination. The term/label of “Aggrieved” was also changed to “Counselee” or “Aggrieved” to “employee or applicant”.

Forms: Report of Counseling 62-03.1, Designation of Representative and Limited Power of Attorney 62-03.2, Agreement to Extend Counseling with Mediation 62-03.4, Individual Formal Complaint Form 62-03.5, Agreement to Extend Counseling without Mediation 62-03.6, Notice of Rights and Responsibilities 62-03.7, Notice of Right to File 62-03.8, Withdrawal 62-03.9, Class Complaint 62-03.10, ADR Election Form 62-03.11.

Affected Public: Individuals (Current Treasury Employees, Former Employees or Applicants).

Estimated Number of Respondents: 20.

Frequency of Response: Once, On Occasion.

Estimated Total Number of Annual Responses: 20.

Estimated Time per Response: Varies by form from 3 minutes to 1 hour.

Estimated Total Annual Burden Hours: 47 hours.

Request for Comments: Comments submitted in response to this notice will be summarized and included in the request for Office of Management and Budget approval. All comments will become a matter of public record. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 44 U.S.C. 3501 et seq.

Snider Page,
Director, Office of Civil Rights and EEO (OCRE).

[FR Doc. 2025-07246 Filed 4-25-25; 8:45 am]

BILLING CODE 4810-AK-P